NATIONAL SCIENCE FOUNDATION

National Science Board Commission on 21st Century Education in Science, Technology, Engineering, and Mathematics; Notice of Meeting

In accordance with the provisions of the Federal Advisory Committee Act (FACA) (Pub. L. 92-463) the following meeting is being announced.

Name: Commission on 21st Century Education in Science, Technology, Engineering, and Mathematics (#29127).

Dates/Time: The meeting will take place on November 20 and 21, 2006. The meeting will be held from 11 a.m. to no later than 5:45 p.m. on November 20 and from 8:15 a.m. to no later than 12:45 p.m. on November 21.

Place: The meeting will be held in the Auditorium at the Museum of Science and Industry, 57th Street and Lakeshore Drive, Chicago, IL 60637. Directions to the Museum may be found at http://www.msichicago.org.

Type of Meeting: Open.

Contact Person: Dr. Elizabeth Strickland, Commission Executive Secretary, National Science Board Office, 4201 Wilson Boulevard, Arlington, VA 22230; Phone: 703-292-4527; E-mail: estrickl@nsf.gov.

Purpose of Meeting: The purpose of this meeting is for the Commission to discuss its ongoing work and to receive briefings relating to STEM education. Further information about the Commission and a provisional agenda for the meeting may be found at http://www.nsf.gov/nsb/edu_com/.

Agenda: Plenary Session I (11 a.m.-12:15 p.m., November 20): Invited speakers to address science, technology, engineering, and mathematics (STEM) education. Plenary Session II (1:15 p.m.-5:45 p.m., November 20): Presentations and discussions by Working Groups of the Commission. Plenary Session III (8:15 a.m.-10 a.m., November 21): Invited speakers to address STEM Education. Plenary Session IV (10:20 a.m.-12:45 p.m., November 21): Discussion among Commission Members.

Public Meeting Attendance: The public is welcome to attend the entire meeting. Those wishing to attend the meeting may follow posted signs to the West Pavilion North Entrance of the Museum building. Those requiring special assistance may make arrangements in advance by e-mailing NSBEDdCom@nsf.gov.

Public Comment: Written comments to the Commission may be submitted by e-mail to NSBEdCom@nsf.gov. Those wishing to make brief public comments during the meeting may register to do so either by signing up at the information table on the day of the meeting or in advance by sending an e-mail to NSBEdCom@nsf.gov.

Dated: November 1, 2006.
Susanne E. Bolton,
Committee Management Officer.

[FR Doc. 06-9091 Filed 11-6-06; 8:45 am]

BILLING CODE 7555-01-M